DEPARTMENT OF TRANSPORTATION

Office of the Secretary of Transportation

[Docket No. DOT-OST-2026-0760]

Guidance on Multimodal State Freight Plans and State Freight Advisory Committees

AGENCY: Office of the Secretary of Transportation (OST), Federal Aviation Administration (FAA), Federal Highway Administration (FHWA), Federal Motor Carrier Safety Administration (FMCSA), Federal Railroad Administration (FRA), Maritime Administration (MARAD), Pipeline and Hazardous Materials Safety Administration (PHMSA), Great Lakes St. Lawrence Seaway Development Corporation (GLS); U.S. Department of Transportation (DOT or Department).

ACTION: Notice of Guidance.

SUMMARY: The Fixing America's Surface Transportation (FAST) Act included a provision requiring each State that receives funding under the National Highway Freight Program (NHFP) to develop a State Freight Plan (the Plan) that provides a comprehensive approach for the immediate and long-range planning activities and investments of the State with respect to freight, and meets all the required plan contents listed in the Act. The Infrastructure Investment and Jobs Act (IIJA) added several new required elements and updated procedures for State Freight Plans. This guidance document updates and replaces the prior guidance on State Freight Plans and State Freight Advisory Committees issued on January 12, 2023. It also updates the guidance to be consistent with recent Executive Orders issued by President Trump and DOT Orders issued by Secretary Duffy. Except for any requirements specified in the statutes cited in the guidance document, the contents of this guidance document do not have the force and effect of law and do not bind the public in any way. The contents will not be relied upon by the Department as a separate basis for affirmative enforcement action or other administrative penalty. Conformity with any recommendations in this guidance document, as distinct from statutory requirements, is voluntary only, and nonconformity will not affect rights and obligations under existing statutes.

DATES: Unless otherwise stated in this Notice, this guidance is effective February 24, 2026.

FOR FURTHER INFORMATION CONTACT: Paul Baumer, 1200 New Jersey Avenue SE, Washington, DC 20590. Telephone: 202-366-1092. Email: Freight@dot.gov.

SUPPLEMENTARY INFORMATION: Pursuant to 23 U.S.C. 167, States receiving funding under the NHFP are required to have a State Freight Plan developed in accordance with 49 U.S.C. 70202 in order to obligate those funds. Section 21104 of IIJA, Public Law 117-8, 135 Stat. 429 (2021), added new required contents and updated procedures for State Freight Plans, including reducing the update cycle for State Freight Plans from five years to four. Following the passage of IIJA, the Department issued revised guidance on State Freight Plans and State Freight Advisory Committees to address changes made by IIJA. This document replaces the prior guidance on State Freight Plans and State Freight Advisory Committees issued on January 12, 2023. The updated guidance document describes the required contents of State Freight Plans under 49 U.S.C. 70202 and continues to encourage States strongly to establish State Freight Advisory Committees, as directed by 49 U.S.C. 70201. The updates to the guidance document ensure consistency with recent Executive Orders issued by the President and DOT Orders issued by Secretary Duffy, as well as an attempt to make the guidance easier to follow.

The following list of required elements that all State Freight Plans must address for each of the transportation modes is provided in 49 U.S.C. 70202:

1. An identification of significant freight system trends, needs, and issues with respect to the State;

2. A description of the freight policies, strategies, and performance measures that will guide the freight-related transportation investment decisions of the State;

3. When applicable, a listing of—

A. Multimodal critical rural freight facilities and corridors designated within the State under 49 U.S.C. 70103 (National Multimodal Freight Network);

B. Critical rural and urban freight corridors designated within the State under 23 U.S.C. 167 (NHFP);

4. A description of how the Plan will improve the ability of the State to meet the national multimodal freight policy goals described in 49 U.S.C. 70101(b) and the NHFP goals described in 23 U.S.C. 167;

5. A description of how innovative technologies and operational strategies, including freight intelligent transportation systems, that improve the safety and efficiency of the freight movement, were considered;

6. In the case of roadways on which travel by heavy vehicles (including mining, agricultural, energy cargo or equipment, and timber vehicles) is projected to deteriorate the condition of the roadways substantially, a description of improvements that may be required to reduce or to impede the deterioration;

7. An inventory of facilities with freight mobility issues, such as bottlenecks, within the State, and for those facilities that are State owned or operated, a description of the strategies the State is employing to address those freight mobility issues;

8. Consideration of any significant congestion or delay caused by freight movements and any strategies to mitigate that congestion or delay;

9. A Freight Investment Plan that, subject to 49 U.S.C. 70202(c)(2), includes a list of priority projects and describes how funds made available to carry out 23 U.S.C. 167 would be invested and matched;

10. The most recent commercial motor vehicle parking facilities assessment conducted by the State under 49 U.S.C. 70202(f);

11. The most recent supply chain cargo flows in the State, expressed by mode of transportation;

12. An inventory of commercial ports in the State;

13. If applicable, consideration of the findings or recommendations made by any multi-State freight compact to which the State is a party under 49 U.S.C. 70204;

14. The impacts of e-commerce on freight infrastructure in the State;

15. Considerations of military freight;

16. Strategies and goals to decrease—

A. The severity of impacts of extreme weather and natural disasters on freight mobility,

B. The impacts of freight movement on local air pollution,

C. The impacts of freight movement on flooding and stormwater runoff, and

D. The impacts of freight movement on wildlife habitat loss; and

17. Consultation with the State Freight Advisory Committee, if applicable.

Each of these required elements is discussed more fully in Section V of the guidance below.

Guidance on State Freight Plans and State Freight Advisory Committees

Table of Contents

I. Background and Program Purpose

II. Policy

III. Funding

IV. State Freight Advisory Committees

V. State Freight Plans—Required Elements

VI. Other Encouragements

VII. Data and Analytical Resources for State Freight Planning

I. Background and Program Purpose

The purpose of this document is to provide guidance on the implementation of 49 U.S.C. 70201 (State Freight Advisory Committees) and 70202 (State Freight Plans), as established under the Fixing America's Surface Transportation Act (FAST Act; Pub. L. 114-94) and subsequently modified by the Infrastructure Investment and Jobs Act (IIJA; Pub. L. 117-58). This document updates and replaces the prior guidance on State Freight Plans and State Freight Advisory Committees, issued on January 12, 2023. Except for any requirements specified in the statutes cited in the guidance document, the contents of this guidance document do not have the force and effect of law and do not bind the public in any way. The contents will not be relied upon by the Department as a separate basis for affirmative enforcement action or other administrative penalty. Conformity with any recommendations in this guidance document, as distinct from statutory requirements, is voluntary only, and nonconformity will not affect rights and obligations under existing statutes.

State Freight Plans can help States contribute to the goals of the National Multimodal Freight Policy in 49 U.S.C. 70101(b) and the goals of the NHFP in 23 U.S.C. 167(b). See 49 U.S.C. 70202(b)(4). DOT believes strongly that these goals provide essential direction and support for the improvement of freight transportation across all modes.

Sections 1117 and 1118, respectively, of the Moving Ahead for Progress in the 21st Century Act (MAP-21; Pub. L. 112-141) required the Secretary to encourage States to establish Freight Advisory Committees and to develop State Freight Plans. Stakeholder representation requirements and qualifications were added by 49 U.S.C. 70201 and 49 U.S.C. 70202 further requires each State receiving funding under 23 U.S.C. 167 (NHFP) to develop a comprehensive State Freight Plan that includes both immediate and long-term freight planning activities and investments. Section 70202 specifies certain minimum contents for State Freight Plans and provides that such plans may be developed separate from or be incorporated into the Long-Range Statewide Transportation Plans required by 23 U.S.C. 135.

Each State that receives NHFP funds is required by 23 U.S.C. 167 to develop a freight plan, consistent with the requirements under 49 U.S.C. 70202, that provides a comprehensive plan for the immediate and long-range planning activities and investments of the State with respect to freight. State Freight Plans developed pursuant to 49 U.S.C. 70202 are multimodal in scope. State Freight Plans are meant to be comprehensive, and as such, they should assist State planning that involves all relevant freight infrastructure (highway, rail, waterway, air, and pipeline, as appropriate to that State).

Each State Freight Plan must include, among other items, a Freight Investment Plan that contains projects or phases of projects only if funding for completion reasonably can be anticipated to be available within the time period identified in the Freight Investment Plan (49 U.S.C. 70202(b)(9), (c)(2)). The State Freight Plan must, when applicable, also include a list of the multimodal critical rural freight facilities and corridors the State designates under 49 U.S.C. 70103 and the critical rural freight corridors and critical urban freight corridors (if these have been identified at the time of submission of the Plan) designated by the State and Metropolitan Planning Organizations (MPOs) under 23 U.S.C. 167 (49 U.S.C. 70202(b)(3)). FHWA issued separate guidance on the implementation of 23 U.S.C. 167, which describes the NHFP program purpose, its governing authorities, funding amount, the National Highway Freight Network, program eligibility, State performance management and other program details. FHWA is updating this guidance to comply with Executive Orders.

II. Policy

DOT strongly encourages all States to establish State Freight Advisory Committees. See 49 U.S.C. 70201(a). Advisory Committees can be a valuable part of the process needed to develop a thorough State Freight Plan by ensuring adequate stakeholder engagement in the formulation of those Plans. If a State establishes a State Freight Advisory Committee, the State must consult with its respective advisory committee while developing or updating its State Freight Plan. See 49 U.S.C. 70202(b)(17). Bringing together the perspectives and knowledge of public and private partners, including shippers, carriers, and infrastructure owners and operators, can be important for developing a comprehensive and relevant State Freight Plan.

Pursuant to 49 U.S.C. 70202, each State that receives funding for the NHFP shall develop a comprehensive freight plan that provides for the immediate and long-range planning activities and investments of the State with respect to freight. Further, 23 U.S.C. 167(h)(4) specifies, notwithstanding any other provision of law, beginning on December 4, 2017, a State may not obligate funds apportioned to the State under 23 U.S.C. 104(b)(5) (i.e., the NHFP) unless the State has developed a freight plan in accordance with 49 U.S.C. 70202 (except that the multimodal component of the Plan may be incomplete before an NHFP fund obligation may be made). All States have met these requirements. Pursuant to 49 U.S.C. 70202, as amended by IIJA, State Freight Plans are required to be updated no less frequently than every four years. There is no statutory allowance for an extension on the period of eligibility of the Plan. If a State's four-year update cycle has expired, then unless the State has developed its State Freight Plan consistent with the existing requirements, the State may not obligate NHFP funds (23 U.S.C. 167(h)(4)).

To enable access to funding under the NHFP and for other reasons, DOT strongly encourages all States to be as comprehensive as possible in the multimodal considerations in their State Freight Plan. DOT understands the effects of freight transportation are often regional, corridor-level, or national in scope. In addition, freight planning can be more complex because it often involves many actors, including privately owned and operated infrastructure. DOT strongly encourages States to consider the performance and modal interaction of the overall freight system when updating their State Freight Plans. State Freight Plans that consider all the relevant transportation modes; integrated transportation and land use design; and aspects of freight performance, such as congestion reduction, safety, infrastructure condition, economic vitality, system reliability, dwell time, and externalities that impact communities should lead to better policies, investments, and performance outcomes.¹

¹ For more information on performance measures, particularly on highways, please see: FHWA, Transportation Performance Management, www.fhwa.dot.gov/TPM.

The State Freight Plans can also be used to communicate the freight performance measurement targets established pursuant to MAP-21, progress and strategies to goal achievement, any extenuating circumstances, and other information relevant to this requirement.

DOT Order 2100.7, Ensuring Reliance Upon Sound Economic Analysis in Department of Transportation Policies, Programs, and Activities (effective January 29, 2025), directs the Department's policymaking activities to be based on sound economic principles and analysis supported by rigorous cost-benefit analyses and data-driven decisions.² State Freight Plans can assist the Department by providing data and information necessary to integrate this principle more fully into DOT program implementation.

² DOT Order 2100.7, Ensuring Reliance Upon Sound Economic Analysis in Department of Transportation Policies, Programs, and Activities, available at: https://www.transportation.gov/mission/ensuring-reliance-upon-sound-economic-analysis-department-transportation-policies-programs.

The State Freight Plan may be developed as a document separate from, or incorporated into, the Long-Range Statewide Transportation Plan required by 23 U.S.C. 135. See 49 U.S.C. 70202(c). If the State Freight Plan is separate from the Long-Range Statewide Transportation Plan,³ both should explain how the projects and actions listed in the State Freight Plan are compatible with and reflected in the Long-Range Statewide Transportation Plan. If the two plans are combined, the Long-Range Statewide Transportation Plan should include a separate section focused on freight transportation and must include the elements specified in 49 U.S.C. 70202.

³ 23 U.S.C. 135(f) (Long-Range Statewide Transportation Plan).

Due to the flexibility provided by statute, DOT will review State Freight Plans separately from the process for approving Long-Range Statewide Transportation and State Rail Plans, which are governed by other statutes. For consideration of compliance with statutory provisions of State Freight Plans, States should submit their State Freight Plans to the FHWA Division Office in their State. DOT will review the freight plans for compliance with 49 U.S.C. 70202 and will notify the State whether its updated State Freight Plan complies with the statutory requirements described below.

DOT released a multimodal, National Freight Strategic Plan on September 3, 2020.⁴ DOT is required to update the National Freight Strategic Plan every five years to comply with the requirements under 49 U.S.C. 70102, as enacted by the FAST Act and amended by IIJA. Updates to the National Freight Strategic Plan will be based on the national goals and priorities set forth in 49 U.S.C. 70101. The National Freight Strategic Plan has and will continue to incorporate, to the extent possible, issues and trends identified in State Freight Plans to capture State and local priorities.

⁴ DOT, National Freight Strategic Plan, https://www.transportation.gov/freight/NFSP.

III. Funding

There is no formula or discretionary funding specifically designated for State Freight Plans or to establish or operate State Freight Advisory Committees. Nevertheless, there are several Federal funding resources with eligibility to support Plan development and planning or Advisory Committee activities. The following is not an exhaustive list, as other Federal funding may be eligible for data collection, analysis, or planning related to discrete elements of the State Freight Plan requirements.

In general, States may use funding apportioned under the Surface Transportation Block Grant Program (23 U.S.C. 133) for developing State Freight Plans, as well as funding set aside from apportioned programs for the State Planning and Research Program (23 U.S.C. 505). Similarly, States may use funds from the NHFP to support freight planning and outreach, including efforts to develop or update State Freight Plans and support State Freight Advisory Committees. They may also use carryover balances from National Highway System (NHS) funds authorized under the Safe, Accountable, Flexible, Efficient Transportation Equity Act: A Legacy for Users (SAFETEA-LU; 23 U.S.C. 103(b)(6)(E) as in effect on the day before enactment of MAP-21) that can be used for transportation planning that benefits the NHS in accordance with 23 U.S.C. 134 and 135 (section 1104 of MAP-21 amended 23 U.S.C. 103, eliminating the NHS Program under § 103; however, the carryover balances remain available for planning activities that benefit the NHS).

IV. State Freight Advisory Committees

DOT strongly recommends that States use a collaborative process for freight planning that involves relevant stakeholders. To help accomplish this, and per the statutory language found in 49 U.S.C. 70201, DOT strongly encourages States to establish and continue State Freight Advisory Committees. A forum of this type will also improve the ability of public and private stakeholders, especially those with experience or qualifications in the areas of general business, transportation planning or freight transportation and logistics, to identify and to engage the appropriate freight planning organization in each State.

The establishment of State Freight Advisory Committees is not required by statute or by DOT. In the event a Committee is established, each committee member shall have sufficient qualifications, including, as applicable, the items listed in 49 U.S.C. 70201(b). A State Freight Advisory Committee is advisory in nature and is not subject to Federal open meeting laws, though State open meeting laws may apply. Nevertheless, DOT strongly encourages States to conduct Committee business in an open manner so that interested persons may observe meetings and may provide input. DOT further encourages States to hold meetings on a regular basis.

As specified in 49 U.S.C. 70201(a), State Freight Advisory Committees should include representatives of a cross-section of public and private sector freight stakeholders. These include the following:

• Ports, if applicable;

• Freight railroads, if applicable;

• Shippers;

• Carriers;

• Freight-related associations;

• Third-party logistics providers;

• Freight industry workforce;

• The transportation department of the State;

• Metropolitan Planning Organizations (MPOs);

• Local governments;

• The environmental protection department of the State, if applicable;

• The air resources board of the State; if applicable;

• Economic development agencies of the State; and

• Not-for-profit organizations or community organizations.

In addition to these organizations identified in the statute, DOT recommends considering the inclusion of the following:

• Federal agencies;

• Independent transportation authorities, such as maritime port and airport authorities of varying sizes, toll highway authorities, and bridge and tunnel authorities;

• Representatives of Tribal Nations;

• Representatives from bordering State or international governments as applicable;

• Regional Transportation Planning Organizations;

• Safety partners and advocates;

• Other private infrastructure owners and investors, such as pipelines;

• Hazardous material transportation providers; and

• University Transportation Centers and other institutions of higher education with experience in freight.

The inclusion of freight carriers, freight associations, and shipper and logistics companies in State Freight Advisory Committees is essential, as much of the innovation in freight carriage, management, and planning for future systems takes place among these organizations. Planning for freight without consulting with these organizations could constitute a significant gap in understanding the nature of freight needs and concerns. Carriers should represent a range of sizes and specialties, including full truck load, less than truckload, and small package delivery services. Similarly, participation by shipper and logistics companies of different sizes can provide critical information about warehousing and distribution service needs.

Since MPOs are responsible for developing and programming projects in their Transportation Improvement Programs (TIPs), DOT strongly encourages States to include representatives from MPOs in freight planning processes because many freight projects are located within metropolitan areas. Similarly, local governments, which often have land use authority in locations of important freight activity, should be included. MPOs, local governments, and community organizations are affected by and may be concerned about the impacts of freight projects. Early collaboration during the freight project planning process can help to address concerns and opportunities. For example, input and engagement with railroad representatives can help identify existing or emerging impacts of rail activity that affect economic development, mobility, throughput, and safety at railway-roadway grade crossings. Engagement and consultation with a State Freight Advisory Committee can help inform strategies to meet freight policy goals and identify areas for investment in a State Freight Plan. Similarly, the inclusion of independent transportation authorities, such as port and airport authorities, toll highway authorities, and bridge and tunnel authorities, helps minimize the fragmentation of planning that often occurs due to different authorities acting independently.

The FAST Act made important changes to the Tribal Transportation Program and established the Tribal Transportation Self-Governance Program (section 1121 of the FAST Act; 23 U.S.C. 207) that extends many of the self-governance provisions of Title V of the Indian Self-Determination and Education Assistance Act to transportation. Representation of Tribal Nations in State freight planning is important to the development of a comprehensive State Freight Plan.

State DOTs already coordinate State involvement in both freight and passenger rail operations, and, as required under section 303 of the Passenger Rail Investment and Improvement Act (PRIIA; Pub. L. 110-432, codified at 49 U.S.C. chapter 227), develop FRA-accepted State Rail Plans. DOT strongly recommends that rail, highway, and other modal divisions (pipeline safety, ports, and airports) within the State DOT or in other agencies of the State government, be represented in State Freight Advisory Committees. States should also consider the inclusion of other State agencies, including those engaged in law enforcement, housing, and emergency planning, which may have the authority to regulate and enforce speed limits on roads and highways, to issue permits for higher-weight truck movements and longer combination vehicles (tractor-trailer combinations with two or more trailers) on State roads, and to plan for emergency operations. Participation of Federal and State environmental agencies may prove useful in helping project sponsors anticipate and mitigate potential environmental issues that could arise from freight projects.

States are encouraged to invite representatives from neighboring States and Nations (Canada, Mexico, and their Provinces and States, as appropriate) to participate in State Freight Advisory Committees, even if only on a limited basis. They should also consider inviting councils of government and regional councils (if not already represented through the MPO), organizations representing multi-State transportation corridors, and other local and regional planning organizations to participate. Participation by Federal government representatives is also encouraged. These participants can provide technical assistance on Federal planning and funding programs. Similarly, participation by regional economic development offices and State or regional Chambers of Commerce is strongly encouraged.

Representatives from the freight transportation industry workforce provide important input in identifying bottlenecks and other inefficiencies; access, operations, and safety issues; methods to respond to freight labor shortages; truck parking capacity and information needs; applications of new technologies; and other factors. Similarly, independent transportation experts, including academic specialists and industry consultants, can be valuable additions to the planning effort.

In all cases, DOT expects that State Freight Advisory Committee participation will vary by State and acknowledges that available funding, State DOT resources, and specific characteristics of a State's freight infrastructure and supply chains will likely lead to significant differences in the size and composition of such Committees.

IIJA established required qualifications for membership on a State Freight Advisory Committee. Per 49 U.S.C. 70201(b), each member of a freight advisory committee shall have qualifications, including the following, as applicable:

• General business and financial experience;

• Experience or qualifications in the areas of freight transportation and logistics;

• Experience in transportation planning;

• Experience representing employees of the freight industry;

• Experience representing a State, local government, or MPO; or

• Experience representing the views of a community group or not-for-profit organization.

As directed by 49 U.S.C. 70201(c), State Freight Advisory Committees shall:

• Advise the State on freight-related priorities, issues, projects, and funding needs;

• Serve as a forum for discussion of State transportation decisions affecting freight mobility;

• Communicate and coordinate regional priorities with other organizations (for example, among a State's DOT, MPOs, Tribal and other local planning organizations);

• Promote the sharing of information between the private and public sectors on freight issues; and

• Participate in the development of the State Freight Plan, including by providing advice regarding the development of the Freight Investment Plan.

The multimodal, multiagency mix of participants recommended above should offer an excellent forum for the exchange of information needed to develop the required components of the State Freight Plan (described in more detail below). The Committee can also focus and facilitate government efforts to incorporate freight into day-to-day planning efforts and to raise the visibility of freight mobility issues more broadly.

Per 23 U.S.C. 167(d)(2), the Federal Highway Administrator, in re-designating the Primary Highway Freight System, shall provide an opportunity for State Freight Advisory Committees, as applicable, to submit additional route miles for consideration. Similarly, 49 U.S.C. 70103(c) authorizes the Assistant Secretary for Multimodal Freight to consider facilities and transportation corridors recommendations by State Freight Advisory Committees for facilities to be included on the National Multimodal Freight Network. States are not constrained statutorily from placing requirements in the charters of their State Freight Advisory Committees to require State consensus with such Committee recommendations for such facilities to the Assistant Secretary or the Federal Highway Administrator.⁵

⁵ The charter for the California Freight Advisory Committee is one example of a State Freight Advisory Committee charter that conforms to good practice, providing for committee membership, responsibilities, frequency of meetings, decision processes, reporting, etc. States can, of course, vary from this format, but DOT strongly recommends the development of a charter document. Caltrans, California Freight Advisory Committee, available at: https://dot.ca.gov/programs/transportation-planning/division-of-transportation-planning/strategic-freight-planning/california-freight-advisory-committee#:~:text=The%20CFAC%20is%20a%20charter,the%20State%2C%20and%20local%20governments.

V. State Freight Plans

Each State that receives funding through the NHFP (23 U.S.C. 167) is required to have a State Freight Plan that provides a comprehensive plan for the immediate and long-range planning activities and investments of the State with respect to freight (49 U.S.C. 70202). If a State's 4-year update cycle has expired, then unless the State has developed its State Freight Plan consistent with the existing requirements, the State may not obligate NHFP funds (23 U.S.C. 167(h)(4)).

The required elements of State Freight Plans under 49 U.S.C. 70202(b), as amended by IIJA, are listed below:

1. An identification of significant freight system trends, needs, and issues with respect to the State;

2. A description of the freight policies, strategies, and performance measures that will guide the freight-related transportation investment decisions of the State;

3. When applicable, a listing of—

A. Multimodal critical rural freight facilities and corridors designated within the State under section 49 U.S.C. 70103 (National Multimodal Freight Network);

B. Critical rural and urban freight corridors designated within the State under 23 U.S.C. 167 (NHFP);

4. A description of how the Plan will improve the ability of the State to meet the national multimodal freight policy goals described in section 49 U.S.C. 70101(b) and the NHFP goals described in 23 U.S.C. 167 (NHFP);

5. A description of how innovative technologies and operational strategies, including freight intelligent transportation systems, that improve the safety and efficiency of the freight movement, were considered;

6. In the case of roadways on which travel by heavy vehicles (including mining, agricultural, energy cargo or equipment, and timber vehicles) is projected to deteriorate the condition of the roadways substantially, a description of improvements that may be required to reduce or to impede the deterioration;

7. An inventory of facilities with freight mobility issues, such as bottlenecks, within the State, and for those facilities that are State owned or operated, a description of the strategies the State is employing to address those freight mobility issues;

8. Consideration of any significant congestion or delay caused by freight movements and any strategies to mitigate that congestion or delay;

9. A Freight Investment Plan that, subject to 49 U.S.C. 70202(c)(2), includes a list of priority projects and describes how funds made available to carry out 23 U.S.C. 167 would be invested and matched;

10. The most recent commercial motor vehicle parking facilities assessment conducted by the State under 49 U.S.C. 70202(f);

11. The most recent supply chain cargo flows in the State, expressed by mode of transportation;

12. An inventory of commercial ports in the State;

13. If applicable, consideration of the findings or recommendations made by any multi-State freight compact to which the State is a party under 49 U.S.C. 70204;

14. The impacts of e-commerce on freight infrastructure in the State;

15. Considerations of military freight;

16. Strategies and goals to decrease—

A. The severity of impacts of extreme weather and natural disasters on freight mobility,

B. The impacts of freight movement on local air pollution,

C. The impacts of freight movement on flooding and stormwater runoff, and

D. The impacts of freight movement on wildlife habitat loss; and

17. Consultation with the State Freight Advisory Committee, if applicable.

The elements listed in 49 U.S.C. 70202 are the only required elements of State Freight Plans. Each element must be addressed if a State wishes to obligate NHFP funds available under 23 U.S.C. 167. As long as State Freight Plans cover the required elements, they may be organized in any structure that works best for individual States. Plans must be updated at least once every four years. States may elect to update more frequently, as appropriate. DOT approval of an updated Plan prior to the expiration of the State's existing Plan would restart the 4-year clock for submitting an updated Plan. If a State wishes to obligate NHFP funds for a project (other than those exempt from inclusion in the Freight Investment Plan), including a freight intermodal or freight rail project, that project must be included in the fiscally constrained Freight Investment Plan as well. See 23 U.S.C. 167(h)(5).

The following paragraphs provide guidance on the minimum amount of information necessary to satisfy each required element. For each required element, DOT also identifies optional information/methods that States may consider including in their State Freight Plans. These items have been identified through a review of research papers, studies of best industry practices, and State Freight Plans that were completed immediately following the FAST Act. DOT is providing this information to help inform each State's freight planning process; ultimately, it is up to each State to determine which, if any, of these additional elements to include.

A State Freight Plan must address an 8-year forecast period (previously required by the FAST Act to be a 5-year horizon), though DOT strongly encourages an outlook covering the next 20 years. While a “State freight plan described in subsection (a) shall address an 8-year forecast period” (49 U.S.C. 70202(d)), the Plan must also provide “a comprehensive plan for the immediate and long-range planning activities and investments of the State with respect to freight” (49 U.S.C. 70202(a)). In almost all transportation planning exercises, long-range planning necessarily exceeds a period of eight years. DOT notes that a freight plan horizon of only eight years likely would not enable States to do more than list present problems and projects already in the development pipeline, without respect to longer-term trends and new technologies. In summary, whereas a planning forecast of eight years is sufficient (and must be provided) to meet the statutory requirement, longer outlooks supplementing the eight-year forecast are strongly recommended for the overall State Freight Plan—if possible, corresponding at least to the 20-year outlook of the Long-Range Metropolitan and Long-Range Statewide Transportation Plans.

Carefully developed forecasts of freight movements will be essential to the success of a freight plan, whether it covers an eight-year period or longer. For example, it is important to have accurate estimates of freight moving along a particular corridor and the numbers of trucks, trains, etc., associated with moving that freight in an efficient manner to select the most appropriate project or projects for that corridor. Improved freight modeling is necessary to estimate future freight movements accurately and to inform alternatives analysis for freight projects, including multi-modal freight planning. For States lacking a long-term freight modeling capability, Freight Analysis Framework (FAF) forecasts are acceptable as a default.⁶ To assist States in long term freight planning, Section VII of this guidance contains several data and analysis sources that may prove useful. DOT continues to support further improvements in freight modeling through its freight model improvement program.

⁶ DOT, Freight Analysis Framework (Sept. 17, 2025), https://www.bts.gov/faf.

A special exception to this guidance on a 20-year outlook period applies to the fiscally constrained Freight Investment Plan component of the State Freight Plan (49 U.S.C. 70202(c)(2)), which addresses the NHFP funding timeframe and can be updated more frequently than the four-year requirement for the entire State Freight Plan. In the context of State Freight Plans, the statute requires that “[t]he freight investment plan component of a freight plan shall include a project, or an identified phase of a project, only if funding for completion of the project can reasonably be anticipated to be available for the project within the time period identified in the freight investment plan.” The statutes governing Long-Range Statewide Transportation Plans do not require these plans to be constrained fiscally, however, and in some cases, States may not be able to provide a fiscally constrained statewide list of freight projects exceeding the planning period of the Statewide Transportation Improvement Program (STIP), which is required to be constrained fiscally. States offering the Long-Range Statewide Transportation Plan as a State Freight Plan must include a Freight Investment Plan to meet State Freight Plan requirements. DOT recommends that all Freight Investment Plans, at a minimum, be aligned carefully with the TIP and STIP documents for the respective MPO and State. Aligning this investment plan with the above-referenced documents enhances the State's ability to prioritize their freight projects and ensures coordination between the State DOT and the MPOs. States may opt to extend the period of their Freight Investment Plans to longer intervals, including 20-year periods that correspond to the statewide and metropolitan long-range plans, if this helps them for freight-planning purposes.

DOT has organized this section around the statutory requirements of 49 U.S.C. 70202 and each element includes subsections describing minimum requirements and suggestions (optional) that States may consider including in their State Freight Plans.

1. An Identification of Significant Freight System Trends, Needs, and Issues With Respect to the State.

Minimum Elements

States have broad flexibility in addressing the trends, needs, and issues of their freight systems. To enhance the identification of these issues, State Freight Plans should begin with a discussion of the role that freight transportation plays in the State's overall economy, and how the economy is projected to grow or to change. The discussion should address the key issues confronting the freight system, both in the present and anticipated in the future. Finally, this element should include discussion of forecasted freight movements and how broader economic trends within the State or region may affect them.

Additional Recommendations for State Consideration

This section could identify those industries which are most important to the economy of the State and the specific freight transportation modes and facilities most vital to the supply chains of these industries. In particular, States should highlight the impacts of the following areas of proper Federal interest on freight flows within their respective States as appropriate: international trade shifts, reshoring of manufacturing, industries of national interest (like energy, steel and critical materials), and support for agricultural exports. In most instances, the State will also have identified critical freight issues in studies conducted through State agencies, MPOs, and academic or research institutions. There are also many national studies (such as through the Transportation Research Board of the National Academies of Sciences, Engineering, and Medicine) and local case studies that focus on emerging freight problems, such as last-mile delivery issues, that will be relevant to many States.

The following are possible items to consider when identifying economic trends and forecasts that will affect freight:

• Global, national, regional, and local economic conditions and supply chain outlooks, particularly those of the State, neighboring States or countries, and principal trading partners;

• Population growth and location;

• Income and employment by industry and service sector, including the expected employment by each sector of the transportation industry;

• Freight attributes of industry and service sectors (including heavy freight, less than truckload freight, and small package delivery);

• Type, value, and quantity of imports and exports;

• Industrial and agricultural production forecasts; and

• Forecasts of freight movements by commodity type and location, including small package deliveries associated with e-commerce, and projected port or rail freight activity.

DOT notes that when there is a high degree of uncertainty about future economic, industrial, and technological conditions (e.g., changing energy markets, deployment of connectivity and automation in freight vehicles), planning approaches, such as scenario planning, can help to develop alternative outlooks that can accommodate more than one future outcome.

DOT strongly encourages States to include a discussion of supply chain resiliency, including the types of critical products moving through or delivered in the State and the impacts of congestion or delays in the movement of those products for people and businesses across the State. In particular, DOT suggests a risk-informed consideration of critical products related to health, safety, energy, and food that are particularly vital to sustain human life, as well as the aforementioned areas of proper Federal interest and corollary supply chains.

DOT recommends that the State Freight Plan describe the conditions and performance of the State's freight transportation system, including trends in conditions and performance. This analysis would help identify needs for future investment within the State. If a State has already conducted an analysis of the conditions and performance of its overall public infrastructure, that analysis could be referenced or incorporated into the State Freight Plan in so far as it pertains to the freight system. Similarly, States may be able to develop such measures from State asset management systems, Highway Performance Monitoring System data, Level of Service data from Transportation Management Centers, National Performance Management Research Data Sets (NPMRDS), or other sources. It is recommended that the performance measures used correspond to those required under Item 2 (“A description of freight policies, strategies, and performance measures”) below.

Information on the condition and performance of private infrastructure is also encouraged, though it is acknowledged that this information is more difficult to obtain. States can consult their State Rail Plans, the Federal Railroad Administration, and other sources to gather information on some aspects of freight rail and rail bridge data (e.g., miles and locations of freight rail that can carry cars weighing 286,000 pounds or greater, tunnel heights adequate for double stack rail cars, dual track sections). Similarly, States may have commissioned reports on port and waterway conditions or may be able to establish performance conditions. Metrics for States to assess truck parking capacity are offered for consideration in the summary report on the first Jason's Law survey.⁷

⁷ FHWA, Jason's Law Truck Parking Survey Results and Comparative Analysis, available at: https://ops.fhwa.dot.gov/freight/infrastructure/truck_parking/jasons_law/truckparkingsurvey/index.htm.

Data on port and waterway conditions and performance may also be available from port authorities, in Port Master Plans, or from automatic identification systems (AIS) for vessels and Global Positioning System (GPS) probe data for trucks in port areas and operating on port access roads. More information about performance data for measuring mobility for non-highway modes is provided in Item 7, “An inventory of facilities with freight mobility issues,” below.

Specific conditions and performance data are not required to be included in State Freight Plans by 49 U.S.C. 70202. States are not required or expected to undertake such an evaluation solely for the purpose of informing the State Freight Plan.

Other topics States may consider addressing include the need to improve safety and mitigate impacts of freight movement on communities, as well as future transportation workforce challenges and supply chain disruptions and resiliency. Discussion of these topics could include assessing the following: impacts of longer and more frequent trains at grade crossings; attracting and retaining a qualified workforce, including strategies to crack down on fraudulent training providers and enforce English language proficiency for commercial drivers; information on capacity and availability of truck parking; hazardous material transportation; and emergency response capability. Many of these issues can be identified through the State Freight Advisory Committee, if one has been established.

2. A description of freight policies, strategies, and performance measures that will guide the freight-related transportation investment decisions of the State.

Minimum Elements

This section of the State Freight Plan is important for providing the overall approach the State will take to address the challenges described in the preceding section. The policies and strategies in the State Freight Plan are likely to reflect a mix of State legislative direction, discretionary decisions by State DOTs and other State agencies, decisions by other States, plans by MPOs, local and Tribal governments, special transportation authorities (including port, airport, and toll authorities), military planning, and the accommodation of plans by private sector companies, such as railroads, marine terminal operators, pipeline companies, trucking companies, and others. States should identify any statutory and State constitutional constraints on freight-related investments and policies, such as prohibitions on spending State funds on certain kinds of infrastructure.

Additional Recommendations for State Consideration

The State Freight Plan should describe the freight policies, strategies, and performance measures that will guide freight-related transportation investment decisions. These policies should outline the State's goals for improving freight mobility, safety, infrastructure condition, multimodal connectivity, and supply chain resilience. As such, DOT recommends strategies to guide investment decisions include:

• Targeting freight bottlenecks and reliability issues on high priority corridors, like the National Highway Freight Network or the National Multimodal Freight Network.

• Improving first and last mile connections to ports, rail facilities, airports and industrial centers.

• Strengthening supply chain resilience, especially for critical single points of failure and routes supporting critical goods or areas of proper Federal interest.

• Enhancing safety through design improvements, at-grade crossing enhancement, and technology deployments.

• Supporting industry needs through workforce development and adoption of advanced freight technologies.

• Using transparent, criteria-based processes to prioritize freight investments that address both interstate and intrastate freight volumes.

Performance measurements should explain how the State will track the effectiveness of its policies, strategies, and investments. Measures may be qualitative or quantitative but should preferably align with the performance measures already identified in the National Freight Strategic Plan or used in State transportation plans, or both, grants applications, and condition-and-performance reports. These may include pavement and bridge condition, traffic congestion, travel time reliability, congestion and delay metrics, freight safety indicators, and resilience considerations. Using consistent, quantitative metrics will help each State determine whether it is achieving its freight objectives and allow it to assess outputs and outcomes relative to expectations.

States should avoid investments that limit freight mobility, worsen congestion, or increase crash risks. In fast-growing metro areas, adding additional interstate on- and off-ramps or closely spaced interchanges can introduce short weaving segments that lower speeds and increase points of conflict. National resources such as the AASHTO Green Book suggest a minimum of one mile between interchanges in urban settings (and about two miles in rural areas), with context-specific design solutions when closer spacing is unavoidable. Planning and access-management policies should evaluate interchange proposals at the corridor scale to preserve limited-access performance as regions grow, keeping the specific needs of commercial vehicles in mind where freight volumes are high.

States should also consider freight policies and strategies that increase supply chain resilience in the State, particularly for the movement of critical products related to health, safety, energy, and food as well as the aforementioned areas of proper Federal interest and corollary supply chains.

3. When applicable, a listing of—

A. Multimodal critical rural freight facilities and corridors designated within the State under 49 U.S.C. 70103, and

B. Critical rural and urban freight corridors designated within the State under section 23 U.S.C. 167.

Minimum Elements

If corridors have been designated pursuant to the statutes given above, the corridors should be included in the State Freight Plan. Inclusion of corridors in the Plan does not constitute a designation and certification of critical rural and urban freight corridors. Critical urban and rural freight corridors are designated and certified under 23 U.S.C. 167(g).

For inclusion in the Plan, corridors may be listed or displayed in another format, such as a map. States should consider modifying their Plan, specifically any maps or tables displaying this information, if corridors are added or previous designations are changed or redesignated. Any changes made to ensure maps/tables/figures are accurate and up to date do not require DOT review and do not constitute a formal update of the State Freight Plan that would reset the four-year update cycle.

Additional Recommendations for State Consideration

DOT also suggests, but does not require, States provide an inventory of the freight transportation assets, both publicly and privately owned, that are deemed most significant for freight planning purposes. This optional list could include elements either included or not included in the National Highway Freight Network or the National Multimodal Freight Network such as locally important freight roads and bridges not on these networks, short line railroads, smaller border crossings, water (including port) facilities, waterways, pipeline terminals, smaller airports, etc. It also could include warehousing, freight transfer facilities, and foreign trade zones located in the State.

4. A description of how the Plan will improve the ability of the State to meet the National Multimodal Freight Policy goals described in section 49 U.S.C. 70101(b) and the NHFP goals described in 23 U.S.C. 167.

Minimum Elements

DOT notes that the goals of the National Multimodal Freight Policy (49 U.S.C. 70101) are extensive and pertain to the National Multimodal Freight Network (49 U.S.C. 70103). These goals are to:

(1) Identify infrastructure improvements, policies, and operational innovations that strengthen the contribution of the National Multimodal Freight Network to the economic competitiveness of the United States, reduce congestion and eliminate bottlenecks on the National Multimodal Freight Network, and increase productivity, particularly for domestic industries and businesses that create high-value jobs;

(2) Improve the safety, security, efficiency, and resiliency of multimodal freight transportation;

(3) Achieve and maintain a state of good repair on the National Multimodal Freight Network;

(4) Use innovation and advanced technology to improve the safety, efficiency, and reliability of the National Multimodal Freight Network;

(5) Improve the economic efficiency and productivity of the National Multimodal Freight Network;

(6) Improve the reliability of freight transportation;

(7) Improve the short- and long-distance movement of goods that travel across rural areas between population centers, travel between rural areas and population centers, and travel from the Nation's ports, airports, and gateways to the National Multimodal Freight Network;

(8) Improve the flexibility of States to support multi-State corridor planning and the creation of multi-State organizations to increase the ability of States to address multimodal freight connectivity;

(9) Reduce the adverse environmental impacts of freight movement on the National Multimodal Freight Network; and

(10) Pursue the goals described in this subsection in a manner that is not burdensome to State and local governments.

The goals of the NHFP (23 U.S.C. 167(b)) are similar but focus on investing in infrastructure improvements and implementing operational improvements on the highways of the United States.

Additional Recommendations for State Consideration

It is noteworthy that the National Multimodal Freight Policy goals are more comprehensive of freight transportation issues than are the required elements of State Freight Plans. States should strongly consider emphasizing aspects of their State goals and strategies intended to improve safety, security, and resiliency of the freight system, including through the use of enhanced designs, technologies, and multimodal strategies. States should consider how their economy and freight system interact with domestic and international supply chains. Safety is of paramount concern to the public and policy makers. There were more than 6,600 freight-related fatalities nationally in 2022.⁸ New technologies offer great potential to reduce or even eliminate fatalities over the next several decades, but more conventional investments in safety are also highly effective in reducing accident risk.

⁸ See NHTSA, Large Trucks Traffic Safety Facts 2022 Data (July 2024), available at: https://crashstats.nhtsa.dot.gov/Api/Public/ViewPublication/813588.

States should also consider describing freight investments that are intended to support economic opportunities as well to mitigate potential negative impacts for communities. Though not cited as a component of the National Multimodal Freight Policy or the NHFP goals, States are invited to provide information on how they will seek to develop and to maintain an adequate workforce for the freight transportation industry.

DOT recommends these goals be addressed individually in the State Freight Plan to facilitate DOT review, but this is not mandatory. Where possible, DOT recommends that State goals and policies (addressed under Item 2, “A description of freight policies, strategies, and performance measures,” above) should be associated with comparable components of the National Multimodal Freight Policy and the NHFP. DOT also recommends that each State identify which goals it believes to be most important and merit the largest focus. DOT acknowledges that a State may not have specific goals or investments pertaining to all elements of the National Multimodal Freight Policy or the NHFP and notes that this is not required for a compliant State Freight Plan.

5. A description of how innovative technologies and operational strategies, including freight intelligent transportation systems, that improve the safety and efficiency of freight movement, were considered.

Minimum Elements

States should describe any innovative technologies and operational strategies that currently are planned for or being implemented across the State to improve the safety and efficiency of the freight network. States should also describe how these technologies and operational strategies can be integrated into existing infrastructure as well as any corresponding infrastructure needs to implement these technologies and strategies. DOT especially encourages States to highlight such initiatives being developed in conjunction with other States along key multi-State corridors.

Additional Recommendations for State Consideration

States can use a range of innovative technologies and operational strategies to improve the safety and efficiency of freight movement. The deployment of Advanced Driver Assistance Systems is accelerating rapidly. Vehicles equipped with automated driving systems, including trucks, are already being piloted in some States. Advanced Air Mobility technology is developing rapidly for both freight and passenger use cases. These and other technologies, including intelligent transportation systems, could improve greatly the safety and efficiency of freight and passenger movements. Specific to freight, they may enable all modes to make safer and more efficient use of existing infrastructure capacity due to more efficient and coordinated vehicle operations, while enhancing the ability of carriers not only to prevent collisions but also to route around congested locations rapidly. As such, DOT strongly encourages States, when updating their State Freight Plans, to explore the potential of these new technologies and how they may affect the need to modify or to expand existing infrastructure.

Other solutions include Transportation Systems Management and Operations (TSMO) approaches that maximize the operational performance of the existing transportation system and provide flexible solutions to manage dynamic conditions. Information technology includes, but is not limited to, freight traveler information systems, electronic credentialing, automated permitting, smart roadside commercial motor vehicle monitoring, truck queue management and appointment systems as ports, truck parking information management systems, and border wait time information. Digital Twin technology for simulating freight infrastructure conditions and assessing project scenarios is growing in use and a valuable tool.

Safety strategies include truck safety warning systems, work zone management for trucks, road weather management, and traffic incident management. Arterial management can include traffic signal timing for trucks, access management at freight facilities, active traffic demand management, off-peak deliveries, and managed truck lanes. DOT recommends States consider strategies to separate freight traffic and heavy vehicles from general purpose traffic at locations where the potential safety and efficiency benefits are highest. Integrated multimodal transportation can be used to improve efficiency through interconnected freight flows utilizing highway, rail, air, and waterborne transportation. Safety improvements are already being realized through features such as automated braking and lane departure warning systems, but impacts will become much more pronounced over the next 10-20 years.

The private sector has been leading the way with many of these new technology solutions, increasingly employing artificial intelligence and machine learning to optimize routes, to predict demand, and to automate decision-making processes, leading to increased efficiency, reduced fuel consumption, and improved delivery times. As such, States are encouraged to work with private terminal operators, freight carriers, third party logistics providers, academic institutions, and other participants in the freight transportation system to develop credible forecasts of the use of innovative technologies and operational strategies within a State or across its borders. Forums such as State Freight Advisory Committees provide excellent opportunities for States and other public entities to consult with private interests to assess better how these technologies may impact the freight system, and how the public sector can best support them with infrastructure investments, intelligent transportation system deployment investments, and regulatory support.

Familiarity with the technology plans of neighboring States, including through participation in their State Freight Advisory Committees or regional or corridor-based freight groups, will help to promote the use of interoperable intelligent transportation systems.

States may benefit from collaborating with private-sector freight operators, ports, railroads, academics, and technology partners to understand how emerging technologies could influence system performance and freight logistics. Engagement through regional coalitions or State Freight Advisory Committees can help identify practical opportunities to apply these tools., share lessons learned, and support consistent deployments approaches across State and corridor boundaries.

6. In the case of roadways on which travel by heavy vehicles (including mining, agricultural, energy cargo or equipment, and timber vehicles) is projected to deteriorate the condition of the roadways substantially, a description of improvements that may be required to reduce or to impede the deterioration.

Minimum Elements

The State Freight Plan should address the strategies to manage heavy freight vehicles on roadways. State Freight Plans should include a description of any specific improvements necessary to reduce deterioration along the State's roadways.

Additional Recommendations for State Consideration

In recent decades, growth across several freight-intensive sectors has increased heavy truck volumes and axle loads. These shifts can accelerate pavement and bridge deterioration, particularly on facilities not designed for sustained heavy freight or mixed traffic involving oversize or specialized vehicles. States may consider mitigation approaches such as using more durable pavement materials or designs on high-demand corridors, directing heavy vehicles to roadways better suited for such loads, applying traffic management strategies to smooth peak flows, and coordinate with industry to understand projected freight growth. DOT recommends that State Freight Plans evaluate how sector-driven freight activity affects roadway condition and identify strategies, where feasible to manage these impacts and maintain infrastructure performance.⁹

⁹ For example, Texas DOT made use of information developed by its Energy Sector Impacts Task Force and other sources to inform its State Freight Plan. See the following for more information: Texas Department of Transportation, Task Force on Texas' Energy Sector Roadway Needs, Report to the Texas Transportation Commission (Dec. 13, 2012) http://ftp.dot.state.tx.us/pub/txdot-info/energy/final_report.pdf; Texas Department of Transportation, Texas Freight Mobility Plan, Final, (Jan. 25, 2016) https://ftp.txdot.gov/pub/txdot/move-texas-freight/studies/freight-mobility/2016/plan.pdf.

7. An inventory of facilities with freight mobility issues, such as bottlenecks, within the State, and for those facilities that are State owned or operated, a description of strategies the State is employing to address the freight mobility issues.

Minimum Elements

The statute does not provide an exhaustive definition as to what qualifies as a freight mobility issue, leaving this determination to the States provided that the issue pertains to freight transportation specifically. States may determine which facilities most concern them and should include an inventory of locations with freight mobility issues based on their assessment. This section should include a description of strategies being taken to address freight mobility issues, either by the State or private sector.

Additional Recommendations for State Consideration

The State Freight Plan should include an inventory of facilities with freight mobility issues across all modes, such as highway and rail bottlenecks, first and last mile constraints, recurrent congestion points, at-grade rail crossing, and areas with limited truck parking or operational restrictions. For State-owned or State-operated facilities, this section should briefly describe the strategies the State is using to address issues and support freight related investment.

Recommended strategies to address freight mobility issues and guide investment decisions include:

• Targeting capacity, operational, or geometric improvements at known bottlenecks.

• Enhancing signal timing, ramp management, and freight focused ITS deployments to improve reliability.

• Incorporating multimodal data, probe data, and source to destination freight trip analysis to evaluate freight fluidity and identify systemwide constraints that impact congestion, travel time reliability, and bottleneck severity.

• Advancing grade separation or safety enhancements at high delay or high-risk rail crossings.

• Improving first and last mile connections serving ports, rail yards, distribution centers, and industrial corridors.

• Increasing truck parking availability and addressing documented shortfalls identified through State or national assessments.

• Prioritizing resiliency improvements on freight corridors vulnerable to disruptions, weather, or infrastructure failures.

• Using data-driven criteria to prioritize mobility projects that deliver the greatest freight benefit.

States may supplement the inventory by referencing regional freight planning activities and institutions.

FHWA resources, such as the Truck Freight Bottleneck Reporting Guidebook, provides methods for identifying and measuring bottlenecks. Additional data sources include the State Freight Advisory Committee, State and regional mobility studies, truck probe data, and truck counts that help illuminate facility and system level bottlenecks.

State Freight Plans may emphasize the identification of freight facilities that likely will be on the National Highway Freight Network and the National Multimodal Freight Network. States are encouraged to identify any significant intermodal connector/first- and last-mile or other mobility problems even if not on these networks. States are strongly encouraged to describe mobility issues associated with non-highway modes. States also are strongly encouraged to consider freight mobility issues occurring in urban and rural settings.

Performance measurement is an important component of this section. States should describe how they measure freight mobility issues and determine where operational or capital investments are needed. Performance measures, preferably consistent with those used in other State planning documents, may include truck travel time reliability pursuant to 23 U.S.C. 150(c)(6), and address congestion at freight bottlenecks, including those identified in the national freight strategic plan, within the State pursuant to 23 U.S.C. 150(e)(4), congestion and delay metrics, pavement and bridge condition, safety indications, and freight dependent economic measures. These metrics help States determine whether strategies are effective in addressing freight mobility challenges and improving overall system performance.

This section should clearly link each identified mobility issue with the specific strategies or improvements the State is pursuing to mitigate those challenges and support long-term freight system reliability, safety, and economic competitiveness. In the discussion of Item 2, “A description of freight policies, strategies, and performance measures that will guide the freight-related transportation investment decisions of the State,” DOT describes various forms of performance metrics available to States. Regarding measuring freight mobility, DOT also recommends consideration of methods that address the fluidity of freight movement through the use of multimodal data and analysis to understand source-to-destination freight trips.

There are numerous potential sources of information on facilities with freight mobility issues. One particularly valuable resource is the State Freight Advisory Committee, whose members often have first-hand, specific data about freight mobility problems in and on public and private facilities throughout the State. Several States, MPOs, and regional or corridor coalitions have developed detailed studies of mobility problems and solutions. States may also consult reports about the locations of major highway freight bottlenecks issued periodically by FHWA,¹⁰ in addition to third-party industry reports (e.g., American Transportation Research Institute).

¹⁰ FHWA, Freight Mobility Trends and Highway Bottlenecks, available at: https://ops.fhwa.dot.gov/freight/freight_analysis/mobility_trends/.

Information about railroad bottlenecks may be available in State Rail Plans, or through consultation with railroads serving the State. Similarly, MPOs can provide information about locations where railroad-highway crossings or railroad-railroad crossings create congestion for vehicles, trains, pedestrians, and non-motorized vehicles. The FRA Blocked Crossing data may serve as a resource to inform on recurring incidences where a train is blocking a highway-rail grade crossing. Railroad unions may be able to share important concerns about bottlenecks. DOT notes that, because railroad freight and railroad-highway grade crossing and separation projects are generally eligible for funding under certain DOT's discretionary grant programs, railroads have an incentive to participate in multimodal freight investment and planning at a State, MPO, and local level.

Port authorities, either participating through State Freight Advisory Committees, MPOs, or in direct consultation with the State, can provide valuable information about mobility and other constraints facing the port, including multimodal connections to highway and railroad systems, as well as connections to inland waterway systems and pipelines. Their Master Plans and similar documents can provide forecasted volumes useful for predicting where future mobility and other constraints may occur. The Port Performance Freight Statistics Program (www.bts.gov/ports) is a source of data on capacity and throughput for the largest ports. Some State DOTs are responsible for port investments and will already have mobility issues identified. The U.S. Army Corps of Engineers may have lock performance and outage information that could inform States about potential inland waterway bottlenecks or disruptions. Port and maritime labor organizations, marine terminal operators, barge and vessel operators, and maritime and port industry associations can be accessed directly to identify facilities with mobility constraints or collectively through State Freight Advisory Committees.

All aspects of the energy transportation pipeline industry are regulated to some extent by Federal and State agencies, which may be able to provide information on congested segments and facilities. Similarly, pipeline operators and their associations may contribute useful information. Potential methods to present solutions to the mobility problems are identified in the next section, immediately below.

8. Consideration of any significant congestion or delay caused by freight movements and any strategies to mitigate that congestion or delay

Minimum Elements

States are already required to identify facilities with mobility impediments (see Item 7 above), and this inventory can be used to address this element. States should try to provide quantitative or qualitative assessments of significant delays to freight movements on those facilities previously identified. Strategies to address significant congestion and delay can be drawn from pre-existing evaluations and plans by the State or multi-state freight corridor groups in which the State participates.

Additional Recommendations for State Consideration

States are encouraged to consider network effects of mitigation actions, and where possible, to look to a broad mix of solutions, including adding multimodal capacity, improved intelligent transportation systems and technological solutions, changed operating procedures (e.g., longer port gate hours), incentives to use off-peak delivery times, regulatory changes to eliminate impediments to improved efficiency (e.g., removing regulatory barriers to use of vehicle connectivity or automation), and multimodal approaches to resolve freight congestion problems.

States are encouraged to consider delays impacting both intrastate and interstate flows and consider strategies that may cross State boundaries to mitigate congestion and delay.

Consultation with the various parties participating in the statewide assessment of mobility impediments can yield essential information about alternatives not previously considered and, as noted earlier, can inform States about rapidly emerging technology deployments in the private sector. Private freight carriers may also share their plans to address rail, port, waterway, pipeline, and air cargo capacity problems, which may affect State plans for highway capacity projects linked to these facilities or otherwise affected by them.

9. A Freight Investment Plan that, subject to 49 U.S.C. 70202(c)(2), includes a list of priority projects and describes how funds made available to carry out 23 U.S.C. 167 would be invested and matched.

Minimum Elements

States must include all projects that will utilize NHFP funding available under 23 U.S.C. 167 in their Freight Investment Plan, except for those described in 23 U.S.C. 167(h)(6). As required in 49 U.S.C. 70202(c)(2), the Freight Investment Plan component shall include a project, or an identified phase of a project, only if funding for completion of the project can reasonably be anticipated to be available for the project within the time period identified in the Freight Investment Plan. This language pertains to “Fiscal-Constraint” and has the same meaning as is applied to TIPs and STIPs (See 23 CFR 450.218(o)). Multi-State projects would require coordination of the States involved such that the project is reflected accurately and consistently in each State's Freight Plan. States may amend their Freight Investment Plan at any time to add or delete projects. Per 23 U.S.C. 167(h)(5)(A)(ii), a State may not obligate NHFP funds on a project unless it is identified in a Freight Investment Plan included in a freight plan of the State that is in effect. A project may not proceed under Advance Construction unless it meets this requirement (23 U.S.C. 115(a)(2)).

Amendments to the Freight Investment Plan require DOT review. However, they do not constitute a formal update of the State Freight Plan that would reset the four-year update cycle.

Additional Recommendations for State Consideration

DOT encourages States to include non-NHFP funded or unfunded projects in their State Freight Plans if the project would address freight-specific needs identified in their plans. This strategy helps stakeholders see the universe of potentially beneficial freight projects, especially those for which NHFP funding is not sufficient to address project costs. Such projects could be considered for future Federal discretionary grants or other State, local, or private funding. If these additional projects are included in a State Freight Plan, it should be indicated that these projects are not part of the prioritized list of fiscally constrained NHFP projects. Other than projects considered for future discretionary grant opportunities, DOT recommends that all freight projects that are included in the State Freight Plan and which involve the expenditure of public funds be included in TIPs, STIPs, and be consistent with Long-Range Metropolitan and Statewide Transportation Plans. To the extent that States have prepared economic analysis for specific projects, DOT encourages States to consider the results of those analyses when determining which projects are included on their Freight Investment Plan, and also to refer to the results of benefit-cost analyses, as appropriate, when and if the project is mentioned in the State Freight Plan. Identifying projects by mode is sometimes useful, but it is not required.

10. The most recent commercial motor vehicle parking facilities assessment conducted by the State under 49 U.S.C. 70202(f)

Minimum Elements

Subsection (f) specifies that as part of the development or updating, as applicable, of a State Freight Plan under this section, each State that receives funding under 23 U.S.C. 167, in consultation with relevant State motor carrier safety personnel, shall conduct an assessment of—

(1) The capability of the State, together with the private sector in the State, to provide adequate parking facilities and rest facilities for commercial motor vehicles engaged in interstate transportation;

(2) The volume of commercial motor vehicle traffic in the State; and

(3) Whether there exist any areas within the State with a shortage of adequate commercial motor vehicle parking facilities, including an analysis (economic or otherwise, as the State determines to be appropriate) of the underlying causes of such a shortage.

Parking facilities provide commercial motor vehicle operators, including buses and commercial motor vehicles, a location where they can take rest breaks in compliance with hours-of-service (HOS) regulations. Basic data on parking capacity and utilization includes locations, number of commercial motor vehicle parking spaces, utilization information, and demand, based upon truck volumes and freight origins and destinations. Stakeholder engagement through outreach to the trucking industry can provide data on driver perceptions on parking availability, but also provides an understanding of driver behavior and decision-making to consider in addressing parking needs. Commercial motor vehicle parking metrics include:

• An inventory of commercial motor vehicle parking supply collected at a facility level for rest areas and other public facilities that measure the capacity of a commercial motor vehicle parking location.

• An identification of additional commercial motor vehicle facilities that have been completed by the State since the prior State Freight Plan and new facilities planned to be developed or expanded by the State in the next four years.

• General information on private commercial motor vehicle parking supply at truck stops and other similar facilities to allow for assessment of private sector capability to provide parking facilities for commercial motor vehicles.

• State level measures such as total number of public and private parking spaces, number of spaces in relation to NHS mileage, or number of spaces in relation to truck vehicle miles of travel.

• Safety and security issues, such as crashes with commercial motor vehicles parked on the side of the road, fatigue-related crashes, HOS violations, or crime at parking facilities.

• Operational demand for commercial motor vehicle parking, such as truck vehicle miles of travel, truck traffic counts and projections, and major origins and destinations, such as freight generators and intermodal connectors.

States are strongly encouraged to develop a plan outlining existing safety risks related to the shortage of truck parking and to identify strategies to improve commercial driver safety through the expansion of truck parking facilities in their State.

Understanding shortages of commercial motor vehicle parking and underlying causes of such a shortage should highlight freight origins and destinations and the importance of parking relative to major freight generators. Parking near ports, intermodal facilities, and distribution centers should be considered. Understanding the impact of congestion on travel time and the related driving distance is important to assessing parking needs along major freight corridors.

Additional Recommendations for State Consideration

Parking activity is tied to a set of factors associated with highway safety; mandatory rest requirements for commercial vehicle operators; and commercial motor vehicle operations in the context of supply chains. Parking deficits and commercial motor vehicle parking in unsafe locations are leading States to look at opportunities to expand parking capacity. Expanding commercial motor vehicle parking capacity should include an assessment of where parking capacity deficiencies exist. Metrics for States to assess truck parking capacity are offered for consideration in the summary reports on the Jason's Law Truck Parking Survey and Assessment.¹¹

¹¹ FHWA, Truck Parking, available at: https://ops.fhwa.dot.gov/Freight/infrastructure/truck_parking/index.htm.

Additional data can provide information on parking capacity, utilization, demand, and driver needs. Additional commercial motor vehicle parking metrics to consider include:

• Commercial motor vehicle parking demand and utilization collected at a facility or corridor level that measure the demand for commercial motor vehicle parking or the utilization of commercial motor vehicle parking facilities by day of the week and time of day.

• Safety and security issues for drivers, such as crime and security provisions at parking facilities.

• Driver needs measures for driver perception, issues, and amenity needs at parking facilities.

• Environmental and local community impacts of commercial motor vehicle parking, such as emissions, noise, or traffic.

Because of the strong linkage between freight transportation and land use, engaging MPOs and local municipalities on commercial motor vehicle parking may help with considering commercial motor vehicle parking as part of freight-intensive land use development. MPO and local municipality engagement allows the development of land use ordinances to directly facilitate efficient freight movement and address commercial motor vehicle parking shortages. Incorporation of commercial motor vehicle parking requirements and zoning allowances into local planning also enables MPOs and local municipalities to manage freight industry demands.

The National Coalition on Truck Parking, which includes public and private sector organizations with an interest in advancing safe truck parking, has developed resources on truck parking capacity, technology and data, funding, finance and regulation and state, regional and local government coordination.¹² Truck Parking Information and Management Systems (TPIMS) that collect data on parking availability may also provide the State with parking usage data and are a potential means of providing drivers with real-time parking availability.

¹² FHWA, National Coalition on Truck Parking, available at: https://ops.fhwa.dot.gov/Freight/infrastructure/truck_parking/coalition/index.htm.

States are strongly encouraged to update their commercial motor vehicle assessment periodically with consideration of the relevancy, timeliness and accuracy of the latest assessment, as well as consideration of shifting trends in commercial and industrial land uses, intermodal generators, traffic patterns and congestion impacting freight movements, safety considerations, truck parking capacity and technology, and new data resources that would support a truck parking assessment.

11. The most recent supply chain cargo flows in the State, expressed by mode of transportation.

Supply chain cargo flows represent end-to-end movement of freight and provide essential information for planning infrastructure investments. Understanding supply chain cargo flows for a State includes information about the State's economy; operation and logistics of freight facilities such warehouses and distribution centers; and how commodities are transported across the State on a multimodal transportation network. While information about transportation network system performance for a single mode, land use and locations of freight facilities, and economy is tracked by public agencies, DOT acknowledges that commodity level operations and logistic information is difficult to access due to privacy concerns. In addition, this proprietary business-sensitive freight operations and logistics information is spread among multiple agents of the supply chain, including shippers, carriers, receivers, and logistics agencies, and adds challenges to sourcing consistently available information.

Minimum Elements

This analysis should include data aggregating total cargo flows by mode, regardless of commodity type and geography. The FAF provides estimated freight flow data by mode of transportation and can be a starting point for this analysis. DOT recognizes that the definition of “most recent” will depend on the data sources chosen to support this analysis. Ideally, the data sources will have been updated within the previous three years, and they should not be older than five years. Similarly, the level of granularity in the analysis will depend on the data sources used.

Additional Recommendations for State Consideration

DOT encourages States to develop the State's economic profile by identifying major industries, major trading partners and major commodities that are transported into, outside and within the State by various modes of transportation (see discussion of Item 1: Identification of Significant Freight System Trends, Needs, and Issues with Respect to the State). Identifying significant external (State or country) trading partners can be useful in identifying gateways (both within the State and outside of the State) that can inform where supply chains flow and help prioritize corridor and gateway investments within the State and nation. Gross Domestic Product (GDP) information (https://www.bea.gov/data/gdp) published through Bureau of Economic Analysis is a potential data source for developing a State's economic profile.

DOT encourages States to focus their attention on cargo flows pertaining to the State's major industries or commodities and greatest sources of freight volume growth rather than trying to describe every commodity. DOT encourages States to pursue data with the lowest level of granularity (i.e., county to county), but recognizes difficulties relating to availability of that data and does not require it to meet the minimum requirements. States are strongly encouraged to include cargo flows for critical products related to health, safety, energy, and food as well as for the aforementioned areas of proper Federal interest.

DOT recommends States to engage the freight industry though State Freight Advisory Committees to forge partnerships in sharing major freight operations and logistics information identifying major cargo flows, flow destinations, and supply chain bottlenecks to improve end-to-end movement of freight that is critical to inform the State Freight Plan.

12. An inventory of commercial ports in the State.

Minimum Elements

This section of the State Freight Plan should include a listing of all commercial ports in the State that are active at the time the State is updating their State Freight Plan. For purposes of this guidance, a commercial port would be defined as any coastal seaport, inland waterway or Great Lakes port, inland port, land port of entry, or airport/spaceport, both privately owned/operated and publicly owned/operated, within the State. For coastal seaports, inland waterway or Great Lakes port, inland port, and land port of entry, any of those commercial ports moving more than two million short tons of cargo annually, as of the most recent data available for that commercial port, should be included in the inventory. The Port Performance Freight Statistics Program (www.bts.gov/ports) is a source of data on capacity and throughput for the largest ports.

Additional Recommendations for State Consideration

DOT strongly encourages States to identify and address ports of particular relevance to industries of national interest and corollary supply chains.

DOT encourages States to consider including an inventory of cargo-handling airports in their State, given the important role that aviation plays in transporting high-value, time-sensitive goods.

DOT encourages States to consider providing additional information about each port and airport, such as the total throughput, specific commodities moved, and other defining characteristics of the facility (i.e., number of terminals, multimodal connections, equipment, etc.).

The U.S. Army Corps of Engineers (USACE) Waterborne Commerce Statistics Center ¹³ provides data on tonnage for maritime commercial ports. DOT recommends use of the Bureau of Transportation Statistics (BTS) T-100 Market (All Carriers) data set ¹⁴ to measure total freight landing/departing from airports and the BTS Transborder Freight data set ¹⁵ for land ports of entry. Securing access to freight data at inland ports that primarily serve rail may require States to work with the private sector to determine total cargo moved.

¹³ U.S. Army Corps of Engineers, Institute for Water Resources, https://www.iwr.usace.army.mil/About/Technical-Centers/WCSC-Waterborne-Commerce-Statistics-Center-2/.

¹⁴ DOT, T-100 Market, Statistical Products and Data, available at: https://www.transtats.bts.gov/Fields.asp?gnoyr_VQ=FMF.

¹⁵ DOT, Data Dashboard, available at: https://data.bts.gov/stories/s/myhq-rm6q.

States are not prohibited from including facilities in this inventory that do not meet the minimum tonnage threshold, particularly if those facilities had a down year due to factors outside their control or are facilities the State expects will meet the threshold in the future, for example, due to expected growth in cargo movements.

13. If applicable, consideration of the findings or recommendations made by any multi-State freight compact to which the State is a party under 49 U.S.C. 70204.

Minimum Elements

If a State belongs to a multi-State freight compact, as described in 49 U.S.C. 70204, then the State Freight Plan must document how the State considered any findings or recommendations made by that multi-State freight compact (49 U.S.C. 70202(b)(13)). Per 49 U.S.C. 70204(d), the Secretary of Transportation must establish a program to provide grants to multi-State freight compacts or States seeking to form a multi-State freight compact. The statute does not identify any existing compacts, so it is up to the State to determine if they currently belong to an existing multi-State freight compact.

Additional Recommendations for State Consideration

States may consider addressing the findings or recommendations made by any multi-State organization in their State Freight Plans, even if those organizations do not constitute a “multi-State freight compact” as defined in 49 U.S.C. 70204. Multi-State organizations could include regional economic development partnerships such as the Appalachian Regional Commission, or multi-State MPOs.

14. The impacts of e-commerce on freight infrastructure in the State.

The use of e-commerce for purchasing goods has increased significantly in recent years, particularly since the beginning of 2020. This e-commerce growth has impacted freight transportation patterns and related transportation infrastructure, and these impacts likely will continue to grow in the coming years due to projected, continued e-commerce growth.

One of the most obvious ways e-commerce is impacting freight transportation infrastructure is through increased, direct deliveries to consumers, often to personal residences. While the impact of e-commerce on the overall volume of transportation is ambiguous, freight travel patterns are changing due to the increased number of delivery locations. E-commerce shipments to personal residences increases freight volumes on roadways and streets not designed for freight vehicles. More frequent deliveries, often with multiple attempts, and reverse logistics for returns only increase the complexity of small freight shipments.

The growing number of curbside deliveries creates challenges in many communities given the proximity to passenger and pedestrian traffic, especially in urban environments. This requires a better understanding of land use patterns in specific jurisdictions to reconcile potential conflicts. Some communities are working with freight carriers to address these issues by creating designated delivery locker locations, which generally are located near residential areas, close enough for many recipients to travel easily to the lockers but with a small enough number of locations to reduce significantly the number of stops freight carriers need to make for deliveries.

Minimum Elements

State Freight Plans should include a narrative describing how shifts toward e-commerce are affecting freight infrastructure in the State. To the extent that data is available, States should consider supplementing their narratives with applicable data, such as changes in warehousing space and capacity within the State. States should consider identifying critical infrastructure for e-commerce, particularly any airports that move large volumes of e-commerce deliveries and primary routes to major distribution centers located across the State.

Additional Recommendations for State Consideration

States may also consider how emerging freight technologies, such as Advanced Air Mobility (AAM) may influence freight and small-package delivery in both urban and rural settings. These technologies have the potential to supplement existing last-mile and middle mile freight operations, reduce delivery times in remote areas, and create new infrastructure or airspace management needs. Coordination with local governments, MPOs, airports, State aviation authorities, and private operations can help States monitor deployment trends, assess potential impacts, and identify opportunities or constraints relevant to State Freight Plan goals.

15. Considerations of military freight.

The expeditious movement of military cargoes and equipment in support of the global deployment ability and sustainment of U.S. Armed Forces is critical for national defense. These cargoes travel on the same infrastructure that commercial freight moves on, and it is vital that this infrastructure is maintained to always be in a state of readiness. The military is a critical economic driver for many States, and it is a driver of freight and cargo movements. This includes the movement of military personnel, supplies, and equipment around the United States, and throughout the world. The U.S. Transportation Command (USTRANSCOM) of the Department of War (DOW) is the single point of contact for completing deployment and global distribution for the military in support of the National Military Strategy. The expeditious movement of military equipment is central to DOW's mission of providing military forces needed to deter war and to protect the security of the Nation, while working to minimize disruption of civilian transportation. Coordination between the military and Federal, State, and local government agencies is essential for safe and successful military convoy deployments.

Minimum Elements

At minimum, State Freight Plans must include a discussion, which should be unclassified, of military freight within their State (49 U.S.C. 70202(b)(15)). Plans should identify specific military installations as well as key transportation infrastructure within their State identified by USTRANSCOM (e.g., Strategic Highway Network, Strategic Railroad Corridor Network) that support military cargo movement, including highways, railroads, seaports, and airports. USTRANSCOM identifies these assets by type and State, as well as specific corridor studies, on their website.¹⁶ Note that some of these corridor studies are restricted access, so States are encouraged to reach out to USTRANSCOM for more information. States should be cognizant that military freight, like other types of freight cargo, may only pass through their State on its infrastructure as it moves from its origin to destination. States should make sure to consider these impacts in their discussion as well.

¹⁶ USTRANSCOM, available at: https://www.ustranscom.mil/.

Information on military cargoes can be aggregated and does not need to delineate between type of cargo/equipment. States should consider vehicle size and weight-related impacts and needs related to military freight movements.

FHWA has developed a publication on coordination procedures between States and DOW to support military deployments: Coordinating Military Deployments on Roads and Highways a Guide for State and Local Agencies.¹⁷

¹⁷ FHWA, Coordinating Military Deployments on Roads and Highways: A Guide for State and Local Agencies, available at: https://ops.fhwa.dot.gov/publications/fhwahop05029/.

Additional Recommendations for State Consideration

States are encouraged to collaborate with USTRANSCOM and the military installations located within their respective State on addressing any additional information necessary, including deployment needs, training, types of moves, and deficiencies that are being or need to be addressed.

16. Strategies and goals to decrease—

A. The severity of impacts of extreme weather and natural disasters on freight mobility,

B. The impacts of freight movement on local air pollution,

C. The impacts of freight movement on flooding and stormwater runoff, and

D. The impacts of freight movement on wildlife habitat loss;

Events such as heavy precipitation periods, coastal flooding, heat, wildfires, and other extreme weather threaten freight infrastructure. Beyond the potential loss of access for localized populations to critical goods and services, the range of impacts may include flooding and damage to highways, limited waterway access, buckled runways, and weakened structures such as bridges. Severe conditions may reduce the life of capital assets, increase operational disruptions, and create the need for new infrastructure. Some consequences may require changes in the design, constructions, siting, operation, and maintenance of infrastructure. Freight mobility also can impact wildlife habitat and local air quality, particularly as freight movements and facilities take on a greater footprint and carry more freight traffic.

Minimum Elements

Consideration of all four of these elements is required for a State Freight Plan to meet minimum requirements (49 U.S.C. 70202(b)(16)). State Freight Plans should set measurable goals to decrease the impacts of each statutory element and should identify strategies to achieve those goals while supporting freight mobility, like significantly reducing freight bottlenecks to curb wasteful emissions associated with idling. The State Freight Plan should include a discussion of existing conditions (“the baseline”), including reference to recent related events, such as extreme weather, natural disaster, flooding, stormwater runoff, or changes in air quality; impacts of freight infrastructure construction and operations on communities and wildlife habitat; consideration of anticipated future impacts to freight transportation as the result of extreme weather and flooding events; and impacts of freight emissions and increasing freight volumes on communities and wildlife habitat. EPA provides air quality statuses and trends for cities and counties; ¹⁸ this data should be included as reference points in State Freight Plans. FHWA's environmental toolkit ¹⁹ provides a number of resources relating to air quality, stormwater,²⁰ floodplains, wildlife habitat, and ecosystems that can be used to set goals and identify strategies for addressing them.

¹⁸ EPA, Air Quality—Cities and Counties, available at: https://www.epa.gov/air-trends/air-quality-cities-and-counties.

¹⁹ FHWA, Environmental Review Toolkit, available at: https://www.environment.fhwa.dot.gov/.

²⁰ For more information, see EPA's National Menu of Best Management Practices (BMPs) for Stormwater https://www.epa.gov/npdes/national-menu-best-management-practices-bmps-stormwater.

Additional Recommendations for State Consideration

State DOTs are strongly encouraged to work collaboratively with other State agencies, local governments, and MPOs to develop goals and identify strategies for inclusion in their State Freight Plan. Local governments and MPOs may have more specific tools and data that can be used to set goals. States are also encouraged to leverage existing statewide resilience plans and strategies, as well as long-range statewide and metropolitan transportation plans, and to apply those to a freight-specific context.

States are encouraged to establish State Freight Advisory Committees (see Section IV of this guidance) that can spur discussion on responding to supply change disruptions that may arise from extreme weather and stormwater flooding events. States are strongly encouraged to evaluate existing freight routes and consider whether investment in alternative routes, including the use of alternative modes, is necessary to maintain supply chain resilience. To the extent that negative environmental and community impacts are attributed to increased freight traffic, particularly in areas already characterized by significant freight movements, States are also encouraged to consider whether investing in infrastructure that supports alternative freight routes will mitigate those impacts. Diversifying freight flows can help reduce the impacts of major freight hubs on surrounding communities, while mitigating the increased supply chain risks associated with an over-concentration of freight in a localized geography. Attracting freight activity to new locations can also create economic opportunity for struggling communities. When appropriate, DOT recommends States look beyond their borders and consider how freight investments in their States may help alleviate concerns about negative impacts reported along major freight routes in other States.

In addition, IIJA established the PROTECT program (23 U.S.C. 176), which provides formula funds and competitive grants to States for resilience improvements. Under this program, States have the option of developing a Resilience Improvement Plan, which can reduce the amount of non-Federal share of the costs of the project. DOT strongly recommends that States consider including elements of that Resilience Improvement Plan, or by reference, if applicable, in their State Freight Plans.

17. Consultation with the State Freight Advisory Committee, if applicable.

Minimum Elements

Each State should provide information summarizing its consultation efforts with their State Freight Advisory Committee, if one has been established. Possible approaches are to reference or summarize minutes of the meetings of the Committee regarding discussions of the State Freight Plan. Other methods are acceptable, including the incorporation of a written position paper from the State Freight Advisory Committee. As outlined in 49 U.S.C. 70201(c), the advisory role of the State Freight Advisory Committee does not include approval of the State Freight Plan.

Additional Recommendations for State Consideration

State DOTs are encouraged to identify membership of the State Freight Advisory Committees by name and affiliation. They can also describe their qualifications and areas of expertise in relation to freight-specific issues.

VI. Other Encouragements

States are strongly encouraged to use the analysis conducted as part of the State Freight Plan to prioritize the investments they make with NHFP funding and other eligible Federal funding. This data-driven and consultative approach to addressing freight needs can ameliorate issues of safety, supply chain delays, local community impacts, impacts on families, and other key issues facing the nation.

For DOT review and approval, States are to submit updated State Freight Plans and Freight Investment Plan amendments to their FHWA Division Office (49 U.S.C. 70202(h)(2)). This process ensures that DOT will be able to provide feedback to the States on the Plans and help States reach compliance for their continued use of NHFP funding.

In addition, State DOTs are encouraged to post agendas and minutes of freight meetings, as well as the State Freight Plans, amended Freight Investment Plans, corridor designations, studies, and other supporting materials on publicly accessible websites to enable access by neighboring State DOTs and other public and private entities.

DOT encourages each State to designate a freight transportation coordinator to facilitate effective communication with the FHWA Division Office in that State regarding the submission of State Freight Plans and Freight Investment Plans. A point of contact can help streamline information exchange with the operating administrations of DOT and freight stakeholders, and help ensure that freight transportation needs are given adequate consideration in the transportation planning process. Within a State Freight Plan, States may provide DOT with information as to how they are organized to plan and implement freight programs across the network of highways, rail lines, waterways, airports, maritime ports, inland ports, land ports of entry, and distribution centers that constitute the multimodal freight system in their State.

This point of contact would also be useful in managing the flow of information between the State and DOT on other freight elements, such as the designation of critical urban freight corridors, critical rural freight corridors, changes to the Primary Highway Freight System, and inputs to the National Freight Strategic Plan and National Multimodal Freight Network. The DOT-designated Marine Highway Network is also an area of emphasis, and the State points of contact can request edits or amendments to that network by contacting the Maritime Administration's Gateway Directors.²¹

²¹ MARAD, Gateway Office, available at http://www.marad.dot.gov/about-us/gateway-offices/.

VII. Data and Analytical Resources for State Freight Planning

The operating administrations of DOT and other departments in the U.S. Government provide a wide range of data and analysis resources to assist States in the freight planning process. The following is a series of links to internet websites that provide useful data and analysis resources:

General Data and Analysis Sources on Freight

• DOT National Multimodal Freight Policy: https://www.transportation.gov/freight

• DOT Supply Chains: https://www.transportation.gov/supplychains

• BTS General Freight Data: https://www.bts.gov/topics/freight-transportation

• Freight Analysis Framework, incorporating data from the BTS Commodity Flow Survey and TransBorder Freight Data; Census Foreign Trade Statistics; U.S. Army Corps of Engineers Waterborne Commerce Statistics; and other sources: https://www.bts.gov/faf

• Freight Indicators for Supply Chains: https://www.bts.gov/freight-indicators

• Commodity Flow Survey: https://www.bts.gov/cfs

Data on Demographics and Economic Censuses

• Economic Census: https://www.census.gov/programs-surveys/economic-census.html

• National Transportation Atlas Database, GIS files across all modes (including rail, ports, America's Marine Highways, locks, etc.): https://www.bts.gov/ntad

• State Statistics: https://www.bts.gov/product/state-transportation-statistics

• North American Industry Classification System (NAICS): https://www.census.gov/naics/

Freight Resources and Statistics by Transportation Mode

• General Highway Freight Data: https://ops.fhwa.dot.gov/freight/freight_analysis/data_sources/index.htm

• National Level Maps Showing Freight Truck Commodity Corridors: https://ops.fhwa.dot.gov/freight/freight_analysis/nat_freight_stats/index.htm

• State Level Maps Showing Freight Truck Flow Patterns: https://ops.fhwa.dot.gov/freight/freight_analysis/state_info/index.htm

• Freight Mobility Trends and Highway Bottlenecks: https://ops.fhwa.dot.gov/freight/freight_analysis/mobility_trends

• Freight Performance Measure Primer: https://ops.fhwa.dot.gov/publications/fhwahop16089

• Freight Performance Measures: https://ops.fhwa.dot.gov/Freight/freight_analysis/travel_time.htm

• The National Coalition on Truck Parking: https://ops.fhwa.dot.gov/Freight/infrastructure/truck_parking/coalition/index.htm

• National Performance Management Research Data Set: https://npmrds.ritis.org/analytics/

• Performance Based Planning and Programing Guidebook: https://www.fhwa.dot.gov/planning/performance_based_planning/pbpp_guidebook/

• Quick Response Freight Manual: https://ops.fhwa.dot.gov/publications/fhwahop19057/fhwahop19057.pdf

• Examples of existing State Freight Plans: https://ops.fhwa.dot.gov/freight/fpcb/toolkit/allplans.aspx

• Truck Freight Bottleneck Reporting Guidebook: https://www.fhwa.dot.gov/tpm/guidance/hop18070.pdf

• Truck Parking Information and Metrics for Assessing Truck Parking Capacity (Jason's Law): https://ops.fhwa.dot.gov/freight/infrastructure/truck_parking/index.htm

International Statistics

• U.S. International Trade Data (Census Bureau): https://www.census.gov/foreign-trade/data/index.html

• International Trade Data and Analysis (International Trade Administration): https://www.trade.gov/trade-data-analysis

• North American Transborder Freight Data: https://www.bts.gov/transborder

• Border Crossing/Entry Data: https://www.bts.gov/browse-statistical-products-and-data/border-crossing-data/border-crossingentry-data

Maritime Data and Statistics

• Navigation Data Center, Waterborne Commerce Statistics Center, U.S. Army Corps of Engineers: https://www.iwr.usace.army.mil/About/Technical-Centers/WCSC-Waterborne-Commerce-Statistics-Center-2/

• Maritime Data and Statistics, U.S. Maritime Administration: https://www.maritime.dot.gov/data-reports/data-statistics/data-statistics

• Port Performance Freight Statistics Program: https://www.bts.gov/ports

• Great Lakes St. Lawrence Seaway System, Under Bilateral American and Canadian management: https://greatlakes-seaway.com/en/about-us/slsmc-management/annual-corporate-summaries/#

Rail Freight Resources and Statistics

• Final State Rail Plan Guidance: https://railroads.dot.gov/rail-network-development/planning/state-rail-plan-guidance

• Surface Transportation Board Data:

○ Economic Data: https://www.stb.gov/reports-data/economic-data/

○ Rail Service Data: https://www.stb.gov/reports-data/rail-service-data/

• Online Highway-Rail Grade Crossing Investment Analysis Tool: https://gradedec.fra.dot.gov/

Air Freight Statistics

• FAA Aerospace Forecasts: https://www.faa.gov/data_research/aviation/

• Office of Airline Information: https://www.bts.gov/airline-data-downloads

Other Resources

• National Transportation Library (research related to freight transportation and a freight data dictionary): https://rosap.ntl.bts.gov

Issued in Washington, DC, on February 19, 2026.
Michael Rutherford,
Assistant Secretary for Multimodal Freight Infrastructure and Policy.

[FR Doc. 2026-03648 Filed 2-23-26; 8:45 am]

BILLING CODE 4910-9X-P